DEPARTMENT OF ENERGY

Federal Energy Regulatory Commission

[Docket No. EL02-61-000]

PG&E National Energy Group, PG&E, Generating, US Gen New England, Inc., and PG&E Energy Trading-Power, L.P., Complainants, v. ISO New England Inc., Respondent; Notice of Complaint

February 27, 2002.

Take notice that on February 25, 2002, PG&E National Energy Group, PG&E Generating, US Gen New England, Inc., and PG&E Energy Trading-Power, L.P. (collectively referred to PG&E National Energy Group Companies) filed a Complaint Requesting Fast Track Processing against ISO New England Inc. (ISO-NE) requesting that the Federal Energy Regulatory Commission immediately strike the January 25, 2002 action by ISO-NE lowering the New England Power Pool (NEPOOL) Objective Capability. The Complaint also requests the Commission to direct NEPOOL to include the Hydro Quebec Interconnection in the NEPOOL Transmission Facilities, and roll the costs of supporting the Hydro Quebec Interconnection into the NEPOOL Open Access Transmission Tariff, or any future tariff for a Northeast Regional Transmission Organization.

Copies of the complaint were served via facsimile and courier to representatives of ISO-NE, electronically to NEPOOL Counsel for circulation to NEPOOL Participants, and by overnight delivery to the affected state regulatory agencies.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before March 18, 2002. Protests will be considered by the Commission in determining the appropriate action to be taken, but will not serve to make protestants parties to the proceeding. Any person wishing to become a party must file a motion to intervene. Answers to the complaint shall also be due on or before March 18, 2002. Copies of this filing are on file with the Commission and are available for public inspection. This filing may also be viewed on the Web at http://www.ferc.gov using the “RIMS” link, select “Docket#” and follow the instructions (call 202-208-2222 for assistance). Comments, protests, interventions and answers may be filed electronically via the Internet in lieu of paper. See, 18 CFR 385.2001(a)(1)(iii) and the instructions on the Commission's Web site under the “e-Filing” link.

Magalie R. Salas,
Secretary.

[FR Doc. 02-5169 Filed 3-4-02; 8:45 am]

BILLING CODE 6717-01-P